DEPARTMENT OF COMMERCE

Foreign-Trade Zones Board

[S-109-2014]

Approval of Subzone Status; General Electric Company; Decatur, Alabama

On August 25, 2014, the Executive Secretary of the Foreign-Trade Zones (FTZ) Board docketed an application submitted by the Huntsville-Madison County Airport Authority, grantee of FTZ 83, requesting subzone status subject to the existing activation limit of FTZ 83 on behalf of General Electric Company in Decatur, Alabama.

The application was processed in accordance with the FTZ Act and Regulations, including notice in the Federal Register inviting public comment (79 FR 51545-51546, 8/29/2014). The FTZ staff examiner reviewed the application and determined that it meets the criteria for approval.

Pursuant to the authority delegated to the FTZ Board's Executive Secretary (15 CFR Sec. 400.36(f)), the application to establish Subzone 83D is approved, subject to the FTZ Act and the Board's regulations, including Section 400.13, and further subject to FTZ 83's 2,000-acre activation limit.

Dated: November 17, 2014.
Andrew McGilvray,
Executive Secretary.

[FR Doc. 2014-27653 Filed 11-20-14; 8:45 am]

BILLING CODE 3510-DS-P